DEPARTMENT OF ENERGY

Federal Energy Regulatory Commission

[Docket No. EF02-3011-000, et al.]

Southeastern Power Administration, et al.; Electric Rate and Corporate Regulation Filings

August 5, 2002.

The following filings have been made with the Commission. The filings are listed in ascending order within each docket classification.

1. Southeastern Power Administration

[Docket No. EF02-3011-000]

Take notice that on July 29, 2002, the Secretary of Energy confirmed and approved Rate Schedules SOCO-1-A, SOCO-2-A, SOCO-3-A, SOCO-4-A, ALA-1-J, MIS-1-J, Duke-1-A, Duke-2-A., Duke-3-A, Duke-4-A, Sante1-A,Santee-2-A, Santee-3-A, Santee-4-A, SCE&G-1-A, SCE&G-2-A, SCE&G3-A, SCE&G-4-A, Regulation 1, Replacement 1, Pump-1-A, and Pump-2 for power from Southeastern Power Administration's (Southeastern) Georgia-Alabama-South Carolina System. The approval extends through September 30, 2007.

The Secretary of Energy states that the Federal Energy Regulatory Commission (Commission) by order issued November 9, 2000, in Docket No. EF98-3031-000, confirmed and approved Rate Schedules SOCO-1, SOCO-2, SOCO-3, SOCO-4, ALA-1-l MISS-1-l, Duke-1, Duke-2, Duke-3, Duke-4, Santee-1, Santee-2, Santee-3, Santee-4, SCE&G-1, SCE&G-2, SCE&G-3, SCE&G-4, and Pump 1. On April 23, 1999, in Docket No. EF98-3011-001, the Commission issued an order granting rehearing for further consideration. On July 31, 2001, the Commission issued an order denying rehearing on the same docket number.

Southeastern proposes in the instant filing to replace these rate schedules.

Comment Date: August 28, 2002.

2. Southeastern Power Administration

[Docket No. EF02-3031-000]

Take notice that on July 29, 2002, the Secretary of Energy confirmed and approved Rate Schedules JW-1-G and JW-2-D for power from Southeastern Power Administration's (Southeastern) Jim Woodruff System. The approval extends through September 19, 2005.

The Secretary of Energy states that the Commission, by order issued November 9, 2000, in Docket No. EF00-3031-000, confirmed and approved Rate Schedules JW-1-F and JW-2-C.

Southeastern proposes in the instant filing to replace these rate schedules.

Comment Date: August 28, 2002.

3. Lower Mount Bethel Energy, LLC

[Docket No. EG02-174-000]

Take notice that on August 1, 2002, Lower Mount Bethel Energy, LLC (Applicant), filed with the Federal Energy Regulatory Commission (Commission) an application for determination of exempt wholesale generator status pursuant to Part 365 of the Commission's regulations.

The Applicant is a Delaware limited liability company formed for the purpose of constructing, leasing and operating the Lower Mount Bethel Energy generating plant, located in Lower Mount Bethel Township, Northampton County, Pennsylvania, which will generate up to 600 MW. The Applicant is an indirect subsidiary of PPL Corporation, a public utility holding company exempt from registration under Section 3(a)(1) of the Public Utility Holding Company Act of 1935.

Comment Date: August 26, 2002.

4. Minergy Detroit, LLC

[Docket No. EG02-175-000]

Take notice that on August 1, 2002, Minergy Detroit, LLC filed an Application for Determination of Exempt Wholesale Generator Status pursuant to Section 32(a)(1) of the Public Utility Holding Company Act of 1935, all as more fully explained in the Application.

Comment Date: August 26, 2002.

5. Riverside Generating Company, L.L.C.

[Docket No. ER01-1044-003]

Take notice that on July 31, 2002, Riverside Generating Company, L.L.C. (Riverside) tendered for filing a notice of change in status.

Comment Date: August 21, 2002.

6. Arizona Public Service Company

[Docket No. ER02-2105-001]

Take notice that on July 31, 2002, Arizona Public Service Company (APS) tendered for filing a compliance with FERC Order No. 614 as directed in the above Docket for the Service Agreement to provide point-to-point transmission service to Southwest Transmission Cooperative, Inc. under APS” Open Access Transmission Tariff.

Comment Date: August 21, 2002.

7. Entergy Services, Inc.

[Docket No. ER02-2243-001]

Take notice that on July 31, 2002, Entergy Services, Inc. (Entergy Services), on behalf of Entergy Mississippi, Inc. (Entergy Mississippi), tendered for filing an amendment to Entergy Services' July 2, 2002, filing of an unexecuted, amended Interconnection and Operating Agreement between Entergy Mississippi and Reliant Energy Choctaw County, LLC (Reliant). The amendment supplies the one-line diagram that was originally submitted in Docket No. ER02-164-000 with the original Interconnection and Operating Agreement between Entergy Mississippi, Inc., and Reliant.

Comment Date: August 21, 2002.

8. California Independent System Operator Corporation

[Docket No. ER02-2321-001]

Take notice that on July 30, 2002, the California Independent System Operator Corporation (ISO) submitted an errata filing concerning the ISO's July 15, 2002 filing of Amendment No. 46 to the ISO Tariff. The ISO has served copies of this filing upon all entities that are on the official service list for Docket No. ER02-2321-000.

Comment Date: August 20, 2002.

9. TransCanada Energy Ltd. (NorthernLights Transmission Project)

[Docket No. ER02-2389-000]

Take notice that on July 31, 2002, TransCanada Energy Ltd. (TCE) on behalf of one or more to be named affiliate companies, referred to as “NorthernLights”, submitted for filing, pursuant to Section 205 of the Federal Power Act, an application requesting that the Federal Energy Regulatory Commission (the Commission) (1) authorize NorthernLights to sell transmission service at negotiated rates; and (2) grant certain waivers in connection with their proposed NorthernLights transmission project.

TCE requests that the Commission issue its approval no later than September 30, 2002, so that the initial open season can commence by November 1, 2002.

Comment Date: August 21, 2002.

10. West Texas Utilities Company

[Docket No. ER02-2390-000]

Take notice that on July 31, 2002, West Texas Utilities Company (WTU) submitted for filing the Interconnection Agreement, dated June 4, 2002, between WTU and the City of Coleman, Texas (Coleman) amended to include an additional point of interconnection to be established between the parties at WTU's East Coleman Substation.

WTU seeks an effective date of June 4, 2002, for the Interconnection Agreement. WTU served copies of the filing on Coleman and the Public Utility Commission of Texas.

Comment Date: August 21, 2002.

11. Southern California Edison Company

[Docket No. ER02-2391-000]

Take notice that on July 31, 2002, Southern California Edison Company (SCE) tendered for filing a Service Agreement For Wholesale Distribution Service under SCE's Wholesale Distribution Access Tariff, an Interconnection Facilities Agreement, and a Reliabilty Management System Agreement (Agreements) between SCE and Sierra Power Corporation (Sierra Power).

These Agreements specify the terms and conditions under which SCE will interconnect Sierra Power's Terra Bella generating facility to its electrical system and provide Distribution Service for up to 9 MW of power produced by the generating facility. Copies of this filing were served upon the Public Utilities Commission of the State of California and Sierra Power.

Comment Date: August 21, 2002.

12. Orion Power Midwest, L.P. FirstEnergy Operating Companies

[Docket No. ER02-2392-000]

Take notice that on July 31, 2002, Orion Power Midwest, L.P. and certain of FirstEnergy Corp.”s operating company subsidiaries tendered for filing with the Federal Energy Regulatory Commission a Notice of Cancellation of three Must-Run Agreements between Orion Power Holdings, Inc. and American Transmission Systems, Incorporated, Ohio Edison Company, Pennsylvania Power Company, The Cleveland Electric Illuminating Company, and The Toledo Edison Company. One agreement is for the Avon Lake generating facility, currently designated as Rate Schedule FERC No. 4, together with Supplement No. 1 to Rate Schedule FERC No. 4. The second agreement is for the New Castle generating facility, and is designated as Rate Schedule FERC No. 5, together with Supplement No. 1 to Rate Schedule FERC No. 5. The final agreement is for the Niles generating facility, designated as Rate Schedule FERC No. 6, together with Supplement No. 1 to Rate Schedule FERC No. 6.

Comment Date: August 21, 2002.

13. Boston Edison Company, Cambridge Electric Light Company, and Commonwealth Electric Company

[Docket No. ER02-2393-000]

Take notice that Boston Edison Company (BECo), Cambridge Electric Light Company (Cambridge), and Commonwealth Electric Company (Commonwealth) (collectively, the NSTAR Companies), on July 31, 2002, tendered for filing three executed service agreements under their respective market-based rate tariffs with Constellation Power Source, Inc.

Comment Date: August 21, 2002.

14. California Independent System Operator Corporation

[Docket No. ER02-2394-000]

Take notice that on July 31, 2002, the California Independent System Operator Corporation (ISO) submitted for Commission filing and acceptance an amendment (Amendment No. 2) to the Utility Distribution Company Operating Agreement (UDC Operating Agreement) between the ISO and the City of Anaheim, California, as well as the revised UDC Operating Agreement incorporating the terms of Amendment No. 2 to the UDC Operating Agreement. The ISO requests that the filing be made effective as of May 16, 2002. The ISO requests privileged treatment, pursuant to 18 CFR 388.112, with regard to portions of the filing.

The ISO has served copies of this filing upon the City of Anaheim, California, the Public Utilities Commission of the State of California, and all parties in Docket No. ER98-1923.

Comment Date: August 21, 2002.

15. New England Power Pool

[Docket No. ER02-2395-000]

Take notice that on July 31, 2002, the New England Power Pool (NEPOOL) Participants Committee filed for acceptance materials to permit NEPOOL to expand its membership to include Allied Utility Network LLC (Allied Utility), and to terminate the memberships of PSEG Energy Technologies Inc. and Public Service Electric and Gas Company (the PSEG Affiliates) and Enron Energy Marketing Corp. (EEMC). The Participants Committee requests an August 1, 2002 effective date for commencement of participation in NEPOOL by Allied Utility, and a July 1, 2002 effective date for the termination of the PSEG Affiliates and EEMC.

The Participants Committee states that copies of these materials were sent to the New England state governors and regulatory commissions and the Participants in NEPOOL.

Comment Date: August 21, 2002.

16. Northwestern Energy

[Docket No. ER02-2396-000]

Take notice that on July 31, 2002, NorthWestern Energy (NWE, formally The Montana Power Company) tendered for filing with the Federal Energy Regulatory Commission pursuant to 18 CFR 35.13 executed Network Integration Transmission Service Agreements with Barretts Minerals Inc. (Barretts) and Stillwater Mining Company (Stillwater) under NWE's FERC Electric Tariff, Fourth Revised Volume No. 5 (Open Access Transmission Tariff).

A copy of the filing was served upon Barretts and Stillwater.

Comment Date: August 21, 2002.

17. Great Lakes Hydro America, LLC

[Docket No. ER02-2397-000]

Take notice that on July 31, 2002, GNE, LLC (GNE) tendered for filing with the Federal Energy Regulatory Commission (Commission) changes to its Commission-approved market-based rate tariff to reflect its legal name change to Great Lakes Hydro America, LLC. on July 26, 2002.

Comment Date: August 21, 2002.

18. Westar Energy, Inc.

[Docket No. ER02-2398-000]

Take notice that on July 31, 2002, Westar Energy, Inc., filed a Notice of Succession whereby Westar Energy adopted, ratified and made its own, in every respect all applicable rate schedules, and supplements thereto, listed below, heretofore filed with the Federal Energy Regulatory Commission (Commission) by Western Resources, Inc. The purpose of the filing is to recognize the change in name of Western Resources, Inc., to Westar Energy, Inc., adopted effective June 19, 2002. Westar Energy states in its Notice that no change in ownership or operation of jurisdictional facilities occurred as a result of the name change.

Westar Energy notes in its filing that its Notice of Succession was inadvertently filed out-of-time. Westar Energy requests waiver of the 30-day filing requirement and for a limited waiver of Order No. 614. Westar Energy submits that since this filing involves only name change with no change in ownership or operation of jurisdictional facilities, that no party has been harmed or prejudice by the short delay in filing.

Comment Date: August 21, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-20286 Filed 8-9-02; 8:45 am]

BILLING CODE 6717-01-P